DEPARTMENT OF ENERGY

Federal Energy Regulatory Commission

[IC01-515-001, FERC-515]

Information Collection Submitted for Review and Request for Comments

April 17, 2001.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under provisions of section 3507 of the Paperwork Reduction Act of 1995 (Pub. L. 104-13). Any interested person may file comments on the collection of information directly with OMB and should address a copy of those comments to the Commission as explained below. The Commission received no comments in response to an earlier Federal Register notice of February 1, 2001 (66 FR 8576-77) and has made this notation in its submission to OMB.

DATES: Comments regarding this collection of information are best assured of having their full effect if received on or before May 23, 2001.

ADDRESSES: Address comments to Office of Management and Budget, Office of Information and Regulatory Affairs, Attention: Federal Energy Regulatory Commission, Desk Officer, 726 Jackson Place, NW., Washington, DC 20503. A copy of the comments should also be sent to Federal Energy Regulatory Commission, Office of the Chief Information Officer, Attention: Mr. Michael Miller, 888 First Street, NE., Washington, DC 20426.

FOR FURTHER INFORMATION CONTACT: Michael Miller may be reached by telephone at (202) 208-1415, by fax at (202) 208-2425, and by e-mail at mike.miller@ferc.fed.us.

SUPPLEMENTARY INFORMATION:

Description

The energy information collection submitted to OMB for review contains:

1. Collection of Information: FERC-515 “Hydropower License-Declaration of Intention”.

2. Sponsor: Federal Energy Regulatory Commission.

3. Control No.: OMB No. 1902-0079. The Commission is now requesting that OMB approve a three-year extension of the current expiration date, with no changes to the existing collection. There is no change to the reporting burden. These are mandatory collection requirements.

4. Necessity of Collection of Information: Submission of the information is necessary to enable the Commission to carry out its responsibilities in implementing the provisions of the Federal Power Act (FPA). The information reported under Commission identifier FERC-515 is filed in accordance with sections 23(b) of the FPA. Section 23(b) of the FPA authorizes the Commission to make a determination as to whether it has jurisdiction over a proposed hydroelectric project. Section 23(b) also requires that any person intending to construct project works on a navigable commerce clause water must file a declaration of their intention to do so with the Commission. If the Commission finds the proposed project will have an impact on “interstate or foreign commerce”, then the person intending to construct the project must obtain a Commission license or exemption before starting construction. Such sites are generally on streams defined as U.S. navigation waters, and over which the Commission has jurisdiction under its authority to regulate foreign and interstate commerce. The information is collected in the form of a written application, declaring the applicant's intent and used by Commission staff to research the jurisdictional aspects of the project. This research includes examining maps and land ownership records to establish whether or not there is Federal jurisdiction over the lands and waters affected by the project. A finding of non-jurisdiction by the Commission eliminates a substantial paperwork burden for an applicant who might otherwise have to file a license or exemption application.

5. Respondent Description: The respondent universe currently comprises on average, 10 applicants for a declaration of intention (“DI”).

6. Estimated Burden: 800 total burden hours, 10 respondents, 1 response annually, 80 hours per response (average).

7. Estimated Cost Burden to Respondents: 800 hours ÷ 2,080 hours per year × $117,041 per year = $45,016, average cost per respondent = $4,502.

Statutory Authority: Sections 23(b), of the Federal Power Act (FPA), 16 U.S.C. Section 617.

David P. Boergers,
Secretary.

[FR Doc. 01-9904 Filed 4-20-01; 8:45 am]

BILLING CODE 6717-01-M